DEPARTMENT OF ENERGY

Federal Energy Regulatory Commission

[Project No. 2570-034]

AEP Generation Resources Inc.; Notice of Application Tendered for Filing With the Commission and Establishing Procedural Schedule for Licensing and Deadline for Submission of Final Amendments

Take notice that the following hydroelectric application has been filed with the Commission and is available for public inspection.

a. Type of Application: New Major License.

b. Project No.: 2570-034.

c. Date Filed: November 30, 2021.

d. Applicant: AEP Generation Resources Inc. (AEP Generation Resources).

e. Name of Project: Racine Hydroelectric Project (Racine Project).

f. Location: The Racine Project is located at the U.S. Army Corps of Engineers' (Corps) Racine Locks and Dam on the Ohio River near the Town of Racine in Meigs County, Ohio. The project occupies 23 acres of federal land administered by the Corps.

g. Filed Pursuant to: Federal Power Act, 16 U.S.C. 791(a)-825(r).

h. Applicant Contact: Jonathan Magalski, Environmental Supervisor (Renewables), c/o American Electric Power Service Corporation, 1 Riverside Plaza, Columbus, OH 43215; (614) 716-2240, jmmagalski@aep.com or Elizabeth Parcell, Process Supervisor, American Electric Power Service Corporation, c/o AEP Generation Resources, Inc., 40 Franklin Road SW, Roanoke, VA 24011, (540) 985-2441.

i. FERC Contact: Jay Summers at (202) 502-8764 or email at jay.summers@ferc.gov.

j. This application is not ready for environmental analysis at this time.

k. The Racine Project would use the Corps' existing Racine Locks and Dam and consist of the following existing facilities: (1) Four 21.75-foot-wide by 60-foot-high intake openings equipped with steel trashracks having a clear bar spacing of 5.5 inches; (2) a reinforced concrete powerhouse located on the east end of the dam containing two horizontal bulb generating units, with a combined capacity of 47.5 megawatts; (3) a 155-foot-long, non-overflow section of sheet pile cells located between the powerhouse and the right abutment; (4) a stand-alone functional replacement dam located upstream of the sheet pile cells that consists of a drilled shaft supported concrete dam with a drilled secant pile seepage control; (5) a 475-foot-long transmission line; and (6) appurtenant facilities.

The Racine Project is currently operated in a run-of-release mode using surplus water from the Corps' Racine Locks and Dam, as directed by the Corps, and has an estimated average annual energy production of 90,364 megawatt-hours. AEP Generation Resources does not propose any new construction and proposes to continue operating the project in a run-of-release mode.

l. Locations of the Application: In addition to publishing the full text of this document in the Federal Register, the Commission provides all interested individuals an opportunity to view and/or print the contents of this document and the full license application via the internet through the Commission's website at http://www.ferc.gov using the “eLibrary” link. Enter the docket number excluding the last three digits in the docket number field to access these documents. At this time, the Commission has suspended access to the Commission's Public Reference Room due to the proclamation declaring a National Emergency concerning the Novel Coronavirus Disease (COVID-19), issued by the President on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | December 2021.
Request Additional Information | January 2022.
Notice of Acceptance/Notice of Ready for Environmental Analysis | May 2022.

o. Final amendments to the application must be filed with the Commission no later than 30 days from the issuance date of the notice of ready for environmental analysis.

Dated: December 8, 2021.
Debbie-Anne A. Reese,
Deputy Secretary.

[FR Doc. 2021-27060 Filed 12-14-21; 8:45 am]

BILLING CODE 6717-01-P